DEPARTMENT OF LABOR

Occupational Safety and Health Administration

[Docket No. ICR-1218-0244 (2006)]

OSHA Strategic Partnership Program for Worker Safety and Health (OSPP)

AGENCY: Occupational Safety and Health Administration (OSHA), Labor.

ACTION: Request for public comment.

SUMMARY: In accordance with 5 CFR 1320.8(d), the Occupational Safety and Health Administration (OSHA) requests comments concerning its proposed extension of the collection of information requirements specified in the OSHA Strategic Partnership Program for Worker Safety and Health (OSPP).

DATES: Comments must be submitted by the following dates:

Hard copy: Your comments must be submitted (postmarked or received) by January 24, 2006.

Facsimile and electronic transmission: Your comments must be received by January 24, 2006.

ADDRESSES: You may submit comments, identified by OSHA Docket No. ICR-1218-0244(2006), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Cathy Oliver at the address below to obtain a copy of the ICR. For additional information on submitting comments, please see the “Public Participation” heading in the SUPPLEMENTARY INFORMATION section of this document.

FOR FURTHER INFORMATION CONTACT: Cathy Oliver, Directorate of Cooperative and State Programs, Occupational Safety and Health Administration, U.S. Department of Labor, Room N-3700, 200 Constitution Avenue, NW., Washington, DC 20210, (202) 693-2208.

SUPPLEMENTARY INFORMATION:

I. Background

The Department of Labor, as part of its continuing effort to reduce paperwork and respondent (i.e., employer) burdens, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is correct. The Occupational Safety and Health Act of the 1970 (the Act) authorizes information collection by employers as necessary or appropriate for enforcement of the Act or for developing information regarding the causes and prevention of occupational injuries, illnesses, and accidents (29 U.S.C. 657 et seq.).

The OSPP allows OSHA to enter into an extended, voluntary, cooperative relationship with groups of employers, employees, and representatives (sometimes including other stakeholders, and sometimes involving only one employer) to encourage, assist and recognize their efforts to eliminate serious hazards and achieve a high level of worker safety and health that goes beyond what historically has been achieved through traditional enforcement methods. Each OSHA Strategic Partnership (OSP) determines which information will be needed, determining the best collection method, and clarifying how the information will be used. At a minimum, each OSP must identify baseline illness and injury data corresponding to all summary line items on the OSHA 200/300 logs, and must track changes at either the worksite level or participant-aggregate level. An OSP may also include other measures of success, such as training activity, self inspections, and/or workers' compensation data.

In this regard, the information collection requirements for the OSPP is used by the Agency to gauge the effectiveness of its programs, identify needed improvements, and ensure that its resources are being used to good and effective purposes.

II. Special Issues for Comment

OSHA has a particular interest in comments on the following issues:

• Whether the proposed information collection requirements are necessary for the proper performance of the Agency's function, including whether the information is useful;

• The accuracy of OSHA's estimate of the burden (time and costs) for the information collection requirements, including the validity of the methodology and assumptions used;

• The quality, utility, and clarity of the information collected;

• Ways to minimize the burden on those who are to respond, including the use of appropriate automated, electronic, mechanical, or other technological collection techniques or other forms of information technology, e.g., permitting electronic submission of responses.

III. Proposed Actions

OSHA is requesting that OMB extend the approval of the collection of information (paperwork) requirements outlined by the Strategic Partnership Program. In addition, the Agency proposes to use a blanket approval, eliminating the need for the Agency to submit the collection of information requirements for each individual partnership to OMB for approval. The Agency also proposes to increase the existing burden hours estimates as a result of the increasing the number of partnerships. OSHA will summarize the comments submitted in response to this notice, and will include this summary in its request to OMB to extend the approval of the collection of information requirements.

Type of Review: Extension of currently approved information collection requirements.

Title: OSHA Strategic Partnership Program for Worker Safety and Health (OSPP).

OMB Number: 1218-0244.

Affected Public: Business or other for-profits; not-for-profit institutions; Federal government; State, local or tribal governments.

Frequency: Annually.

Number of Respondents: 5,113.

Estimated Time Per Respondent: 11 hours.

Total Burden Hours: 57,923.

IV. Public Participation—Submission of Comments on This Notice and Internet Access to Comments and Submissions

You may submit comments in response to this document by (1) hard copy, (2) FAX transmission (facsimile), or (3) electronically through the OSHA Web page. Because of security-related problems, there may be significant delay in the receipt of comments by regular mail. Please contact the OSHA Docket Office at (202) 693-2350 (TTY (877) 889-5627) for information about security procedures concerning the delivery of submissions by express delivery, hand delivery, and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on November 17, 2005.
Jonathan L. Snare,
Acting Assistant Secretary of Labor.

[FR Doc. 05-23291 Filed 11-23-05; 8:45 am]

BILLING CODE 4510-26-M